DEPARTMENT OF THE INTERIOR

Bureau of Land Management

[LLAZG02200.L16100000. DQ0000.LXSS206A0000]

Notice of Availability of Record of Decision for the San Pedro Riparian National Conservation Area Resource Management Plan Final Environmental Impact Statement, Arizona

AGENCY: Bureau of Land Management, Interior.

ACTION: Notice of availability.

SUMMARY: The Bureau of Land Management (BLM) announces the availability of the Record of Decision (ROD) for the approved Resource Management Plan (RMP) for the San Pedro Riparian National Conservation Area (SPRNCA) located in Cochise County in southeastern Arizona. The Arizona State Director signed the ROD on July 30, 2019, which constitutes the final decision of the BLM and makes the approved RMP effective immediately.

ADDRESSES: Copies of the ROD/approved RMP are available upon request from the Field Manager, Tucson Field Office, Bureau of Land Management, 3201 East Universal Way, Tucson, AZ 85756 or on the BLM ePlanning project website at https://go.usa.gov/xQKFU. Copies of the ROD/approved RMP are available for public inspection at the Arizona State Office and the Tucson Field Office.

FOR FURTHER INFORMATION CONTACT: Scott Feldhausen, Gila District Manager, telephone 520-258-7279; address 3201 East Universal Way, Tucson, AZ 85756; email blm_az_tfo_sprnca_rmp@blm.gov. Persons who use a telecommunications device for the deaf (TDD) may call the Federal Relay Service (FRS) at 1-800-877-8339 to contact the above individual during normal business hours. The FIRS is available 24 hours a day, 7 days a week, to leave a message or question with the above individual. You will receive a reply during normal business hours.

SUPPLEMENTARY INFORMATION: The SPRNCA RMP provides management for 55,990 acres of public land administered by the BLM Tucson Field Office. The approved RMP describes the goals, objectives, and management actions for the SPRNCA's resources and uses identified in the enabling legislation, including aquatic; wildlife; archaeological; paleontological; scientific; cultural; educational; and recreational resources and values. The approved RMP focuses on active resource management, provides a mix of recreational opportunities, allows for livestock grazing on existing allotments in the SPRNCA, increases acres available for hunting with firearms, and provides for additional opportunities for habitat restoration, water recharge projects, and species reintroductions. The SPRNCA RMP was developed with stakeholder dialogue throughout the planning process. The BLM regularly communicated with, and solicited input from the public, organizations, other agencies, state and local government, and the tribes through public meetings, newsletters, and electronic communications. The Proposed RMP/Final EIS was published on April 26, 2019 (84 FR 17888). During the 30-day protest period, the BLM Director received 28 protest letters. All protests were resolved prior to the issuance of the ROD. No comments regarding potential inconsistencies with State and local plans, programs, and policies were received from the Governor's Office during the Governor's Consistency Review process. The approved RMP carries forward all decisions from the Proposed Plan. The ROD summarizes clarifications and modifications included in the RMP. Minor changes were made in the RMP for clarity and to reduce redundancy. Minor inconsistencies, including the numbering of goals, objectives, allowable uses and management actions, were also rectified. There are not any appealable decisions included in the ROD.

(Authority: 40 CFR 1506.6)

Raymond Suazo,
State Director.

[FR Doc. 2019-16746 Filed 8-5-19; 8:45 am]

BILLING CODE 4310-32-P